ENVIRONMENTAL PROTECTION AGENCY

[OPP-181082; FRL-6810-4]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period December 2000 to October 2001 to control unforseen pest outbreaks.

FOR FURTHER INFORMATION CONTACT: See each emergency exemption or denial for the name of a contact person. The following information applies to all contact persons: Emergency Response Team, Registration Division (7505C), Office of Pesticide Programs, Environmental Protection Agency, 1200 Pennsylvania Ave., NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you petition EPA for authorization under FIFRA section 18 to use pesticide products which are otherwise unavailable for a given use. Potentially affected categories and entities may include, but are not limited to:

Categories | NAICS codes | Examples of potentially affected entities
Federal Government | 9241 | Federal agencies that petition EPA for FIFRA section 18 pesticide use authorization
State and Territorial government agencies charged with pesticide authority | 9241 | State agencies that petition EPA for FIFRA section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions in 40 CFR part 166. If you have any questions regarding the applicability of this action to a particular entity, consult the person listed under FOR FURTHER INFORMATION CONTACT.

B. How Can I Get Additional Information or Copies of this Document or Other Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-181082. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific: EPA authorized the use of norflurazon on bermudagrass to control annual grassy weeds; March 6, 2001 to July 31, 2001. Contact: (Libby Pemberton)

EPA authorized the use of coumaphos in beehives to control varroa mites and small hive beetles; April 18, 2001 to February 1, 2002. Contact: (Barbara Madden)

EPA authorized the use of azoxystrobin on watercress to control cercospora leaf spot disease; April 26, 2001 to April 26, 2002. Contact: (Libby Pemberton)

EPA authorized the use of fludioxonil on peaches to control brown rot; August 24, 2001 to September 30, 2001. Contact: (Andrew Ertman)

Arizona

Department of Agriculture

Specific: EPA authorized the use of coumaphos in beehives to control varroa mites and small hive beetles; February 2, 2001 to February 1, 2002. Contact: (Barbara Madden)

EPA authorized the use of buprofezin on cotton to control silverleaf whiteflies; June 20, 2001 to September 30, 2001. Contact: (Andrew Ertman)

EPA authorized the use of metolachlor on spinach to control weeds; August 24, 2001 to May 15, 2002. Contact: (Andrew Ertman)

Arkansas

State Plant Board

Crisis: On May 11, 2001, for the use of tebufenozide on pastures and hay fields to control armyworms. This program is expected to end on November 30, 2001. Contact: (Barbara Madden)

On August 16, 2001, for the use of methoxyfenozide on soybeans to control saltmarsh caterpillars. This program ended on September 30, 2001. Contact: (Barbara Madden)

Quarantine: EPA authorized the use of paraformaldehyde in poultry health facilities to control disease causing organisms; June 15, 2001 to June 15, 2004. Contact: (Libby Pemberton)

Specific: EPA authorized the use of imazapic plus 2,4-D on bermudagrass pastures and hayfields to control grassy weeds; March 2, 2001 to May 30, 2001. Contact: (Beth Edwards)

EPA authorized the use of coumaphos in beehives to control varroa mites and small hive beetles; March 21, 2001 to February 1, 2002. Contact: (Barbara Madden)

EPA authorized the use of azoxystrobin on strawberries to control anthracnose; April 4, 2001 to December 31, 2001. Contact: (Libby Pemberton)

EPA authorized the use of fomesafen on snap beans to control broadleaf weeds; April 10, 2001 to September 15, 2001. Contact: (Shaja Brothers)

EPA authorized the use of fenoxaprop-p-ethyl and its safener AE F122006 on rice to control barnyard grass; May 1, 2001 to July 31, 2001. Contact: (Andrew Ertman)

EPA authorized the use of diuron and its metabolites convertible to 3,4-dichloroaniline on catfish ponds to control blue-green algae; June 1, 2001 to September 30, 2001. Contact: (Shaja R. Brothers)

EPA authorized the use of carbofuran on cotton to control cotton aphids; June 1, 2001 to September 30, 2001. Contact: (Barbara Madden)

EPA authorized the use of tebufenozide on pasture and rangeland to control armyworms; June 26, 2001 to November 30, 2001. Contact: (Barbara Madden)

EPA authorized the use of emamectin benzoate on cotton to control beet armyworm and tobacco budworm; June 26, 2001 to September 30, 2001. Contact: (Beth Edwards)

EPA authorized the use of methoxyfenozide on soybeans to control saltmarsh caterpillars; September 27, 2001 to September 30, 2001. Contact: (Barbara Madden)

California

Environmental Protection Agency, Department of Pesticide Regulation

Crisis: On January 22, 2001, for the use of carboxin on onion seed to control onion smut. This program ended on January 23, 2001. Contact: (Dan Rosenblatt)

Specific: EPA authorized the use of avermectin on avocado to control thrips; November 9, 2000 to November 9, 2001. Contact: (Dan Rosenblatt)

EPA authorized the use of avermectin on spinach to control leafminers; December 27, 2000 to October 31, 2001. Contact: (Dan Rosenblatt)

EPA authorized the use of carboxin on onion seed to control onion smut; January 17, 2001 to May 31, 2001. Contact: (Dan Rosenblatt)

EPA authorized the use of maneb on walnuts to control walnut bacterial blight; February 1, 2001 to December 15, 2001. Contact: (Libby Pemberton)

EPA authorized the use of coumaphos in beehives to control varroa mites and small hive beetles; February 7, 2001 to February 1, 2002. Contact: (Barbara Madden)

EPA authorized the use of imidacloprid on citrus to control the glassy-winged sharpshooter; March 1, 2001 to December 31, 2001. Contact: (Andrew Ertman)

EPA authorized the use of metolachlor on tomatoes to control weeds; March 1, 2001 to July 31, 2001. Contact: (Andrew Ertman)

EPA authorized the use of hexythiazox on dates to control banks grass mites; March 14, 2001 to June 30, 2001. Contact: (Beth Edwards)

EPA authorized the use of tebufenozide on grapes to control grape leafroller and omnivorous leafroller; April 1, 2001 to September 1, 2001. Contact: (Barbara Madden)

EPA authorized the use of fludioxonil on stone fruit to control brown rot, gray mold rot, and rhizopus rot; April 20, 2001 to November 1, 2001. Contact: (Andrew Ertman)

EPA authorized the use of avermectin on basil to control leafminers; May 9, 2001 to October 30, 2001. Contact: (Beth Edwards)

EPA authorized the use of buprofezin on cotton to control silverleaf whiteflies; June 15, 2001 to October 15, 2001. Contact: (Andrew Ertman)

EPA authorized the use of propamocarb hydrochloride on tomatoes (including greenhouse grown transplants for field production) to control late blight; July 17, 2001 to July 17, 2002. Contact: (Libby Pemberton)

EPA authorized the use of carbofuran on cotton to control aphid; July 20, 2001 to October 15, 2001. Contact: (Barbara Madden)

EPA authorized the use of fludioxonil on pomegranates to control gray mold; July 26, 2001 to November 1, 2001. Contact: (Andrew Ertman)

EPA authorized the use of spinosad on sugar beets to control armyworms; August 7, 2001 to August 7, 2002. Contact: (Andrew Ertman)

EPA authorized the use of myclobutanil on peppers to control powdery mildew; August 18, 2001 to August 17, 2002. Contact: (Barbara Madden)

EPA authorized the use of myclobutanil on artichokes to control powdery mildew; September 1, 2001 to August 31, 2002. Contact: (Barbara Madden)

EPA authorized the use of paraquat on artichokes to control weeds; September 1, 2001 to August 31, 2002. Contact: (Libby Pemberton)

EPA authorized the use of imidacloprid on stone fruit to control the glassy-winged sharpshooter; September 5, 2001 to June 22, 2002. Contact: (Andrew Ertman)

EPA authorized the use of imidacloprid on almonds to control the glassy-winged sharpshooter; September 5, 2001 to June 22, 2002. Contact: (Andrew Ertman)

EPA authorized the use of imidacloprid on blueberries to control the glassy-winged sharpshooter; September 5, 2001 to June 22, 2002. Contact: (Andrew Ertman)

EPA authorized the use of fenhexamid on pears to control gray mold; September 7, 2001 to October 31, 2001. Contact: (Dan Rosenblatt)

EPA authorized the use of imidacloprid on table beets to control aphids; September 12, 2001 to September 11, 2002. Contact: (Andrew Ertman)

Colorado

Department of Agriculture

Specific: EPA authorized the use of imidacloprid on sweet corn seed to control the corn flea beetle; December 11, 2000 to December 10, 2001. Contact: (Andrew Ertman)

EPA authorized the use of difenoconazole on sweet corn seed to control fungal pathogens; January 31, 2001 to January 30, 2002. Contact: (Andrea Conrath)

EPA authorized the use of coumaphos in beehives to control varroa mites and small hive beetles; February 7, 2001 to February 1, 2002. Contact: (Barbara Madden)

EPA authorized the use of metolachlor on spinach to control weeds; March 6, 2001 to September 30, 2001. Contact: (Andrew Ertman)

EPA authorized the use of sulfentrazone on sunflowers to control broadleaf weeds; March 16, 2001 to July 1, 2001. Contact: (Beth Edwards)

EPA authorized the use of lambda-cyhalothrin on barley to control the Russian wheat aphid; April 15, 2001 to July 15, 2001. Contact: (Andrew Ertman)

EPA authorized the use of dimethenamid on sugar beets to control weeds; April 30, 2001 to July 10, 2001. Contact: (Barbara Madden)

EPA authorized the use of tebuconazole on sunflowers to control rust; May 9, 2001 to August 25, 2001. Contact: (Beth Edwards)

EPA authorized the use of imazamox on dry beans to control weeds; June 1, 2001 to July 15, 2001. Contact: (Barbara Madden)

EPA authorized the use of tetraconazole on sugar beets to control cercospora leafspot (Cercospora Beticola); June 15, 2001 to September 30, 2001. Contact: (Barbara Madden)

EPA authorized the use of propiconazole on dry beans to control rust; July 1, 2001 to August 31, 2001. Contact: (Barbara Madden)

EPA authorized the use of imazapic-ammonium on pasture and rangeland (including land in the Conservation Reserve Program) to control leafy spurge; August 1, 2001 to December 31, 2001. Contact: (Libby Pemberton)

Connecticut

Department of Environmental Protection

Crisis: On July 13, 2001, for the use of tebufenozide on pasture to control armyworms. This program ended on October 31, 2001. Contact: (Barbara Madden)

Specific: EPA authorized the use of coumaphos in beehives to control varroa mites and small hive beetles; February 2, 2001 to February 1, 2002. Contact: (Barbara Madden)

EPA authorized the use of imidacloprid on strawberries to control root feeding beetles; July 1, 2001 to August 7, 2001. Contact: (Andrew Ertman)

EPA authorized the use of tebufenozide on pasture to control armyworms; August 6, 2001 to October 31, 2001. Contact: (Barbara Madden)

Delaware

Department of Agriculture

Specific: EPA authorized the use of chlorpropham on spinach to control chickweed; March 2, 2001 to April 30, 2001. Contact: (Beth Edwards)

EPA authorized the use of terbacil on watermelons to control broadleaf weeds; March 8, 2001 to June 15, 2001. Contact: (Beth Edwards)

EPA authorized the use of fomesafen on snap bean to control weeds; March 15, 2001 to October 10, 2001. Contact: (Shaja R. Brothers)

EPA authorized the use of imidacloprid on stone fruit to control aphids; April 1, 2001 to October 15, 2001. Contact: (Andrew Ertman)

EPA authorized the use of dimethomorph on squash, cantaloupes, watermelons, and cucumbers to control Phytophthora blight; April 27, 2001 to September 30, 2001. Contact: (Libby Pemberton)

EPA authorized the use of coumaphos in beehives to control varroa mites and small hive beetles; April 30, 2001 to February 1, 2002. Contact: (Barbara Madden)

EPA authorized the use of clopyralid on peaches and nectarines to control weeds that serve as alternate hosts for plum pox virus or are refugia for the green peach aphid, the vector of this virus; May 17, 2001 to December 1, 2001. Contact: (Barbara Madden)

EPA authorized the use of propyzamide on cranberries to control dodder; June 29, 2001 to December 15, 2001. Contact: (Andrew Ertman)

Florida

Department of Agriculture and Consumer Services

Crisis: On June 14, 2001, for the use of azoxystrobin on lychee to control anthracnose. This program is expected to end on May 1, 2002. Contact: (Libby Pemberton)

Specific: EPA authorized the use of imidacloprid in legume vegetables to control whiteflies; November 17, 2000 to November 16, 2001. Contact: (Andrea Conrath)

EPA authorized the use of coumaphos in beehives to control varroa mites and small hive beetles; January 19, 2001 to January 18, 2002. Contact: (Barbara Madden)

EPA authorized the use of pyriproxyfen in legume vegetables, except soybeans to control whiteflies; February 4, 2001 to February 4, 2002. Contact: (Andrea Conrath)

EPA authorized the use of bifenthrin on citrus to control diaprepes root weevil; March 2, 2001 to March 2, 2002. Contact: (Shaja Brothers)

EPA authorized the use of fenbuconazole on grapefruit to control greasy spot disease; May 4, 2001 to November 11, 2001. Contact: (Shaja Brothers)

EPA authorized the use of buprofezin on tomatoes to control Silverleaf whiteflies; June 1, 2001 to June 1, 2002. Contact: (Andrew Ertman)

EPA authorized the use of azoxystrobin on strawberries to control anthracnose; September 11, 2001 to May 31, 2002. Contact: (Libby Pemberton)

Georgia

Department of Agriculture

Specific: EPA authorized the use of fenbuconazole on blueberries to control mummy berry disease; December 15, 2000 to July 1, 2001. Contact: (Dan Rosenblatt)

EPA authorized the use of diuron in catfish ponds to control blue-green algae; December 26, 2000 to November 30, 2001. Contact: (Andrea Conrath)

EPA authorized the use of coumaphos in beehives to control varroa mites and small hive beetles; January 19, 2001 to January 18, 2002. Contact: (Barbara Madden)

EPA authorized the use of norflurazon on bermudagrass to control annual grassy weeds; March 6, 2001 to July 1, 2001. Contact: (Libby Pemberton)

EPA authorized the use of fludioxonil on peaches and nectarines to control brown rot; April 20, 2001 to September 1, 2001. Contact: (Andrew Ertman)

EPA authorized the use of azoxystrobin on brassica leafy vegetables to control cercospora leaf spot disease; August 27, 2001 to December 27, 2001. Contact: (Libby Pemberton)

EPA authorized the use of pyriproxyfen on succulent beans to control silverleaf whiteflies; August 30, 2001 to October 31, 2001. Contact: (Andrew Ertman)

EPA authorized the use of azoxystrobin on strawberries to control anthracnose; September 5, 2001 to June 30, 2002. Contact: (Libby Pemberton)

Hawaii

Department of Agriculture

Specific: EPA authorized the use of sodium 2-(3-chlorophenoxy) propionate (cloprop) on pineapple for fruit enlargement on the Island of Oahu; April 18, 2001 to April 18, 2002. Contact: (Barbara Madden)

EPA authorized the use of hydramethylnon on pineapples to control big-headed and Argentine ants; May 15, 2001 to May 15, 2002. Contact: (Libby Pemberton)

EPA authorized the use of caffeine (1,3,7-trimethylxanthine) on floriculture and nursery crops, outdoor ornamental plants in residential areas, parks, hotels and resorts, and forest habitats to control tropical frogs; September 27, 2001 to September 27, 2002. Contact: (Barbara Madden)

Idaho

Department of Agriculture

Crisis: On June 1, 2001, for the use of azoxystrobin on chickpeas to control ascochyta blight. This program ended on August 31, 2001. Contact: (Libby Pemberton)

Denial: On June 26, 2001, EPA denied the use of triflumizole on sweet cherries to control powdery mildew. This request was denied because the claim of resistance to registered alternatives was not fully substantiated. Contact: (Andrew Ertman).

On September 27, 2001, EPA denied the use of azoxystrobin on chickpeas to control ascochyta blight. This request was denied because it was not demonstrated that an urgent and non-routine situation exists due to the presence of ascochyta blight in chickpeas. Contact: (Libby Pemberton).

Specific: EPA authorized the use of pendimethalin on mint to control kochia and redroot pigweed; January 29, 2001 to December 31, 2001. Contact: (Libby Pemberton)

EPA authorized the use of oxytetracyline on apples to control fire blight; January 31, 2001 to August 31, 2001. Contact: (Andrea Conrath)

EPA authorized the use of coumaphos in beehives to control varroa mites and small hive beetles; February 2, 2001 to February 1, 2002. Contact: (Barbara Madden)

EPA authorized the use of tebuconazole and myclobutanil on hops to control powdery mildew; April 15, 2001 to September 22, 2001. Contact: (Barbara Madden)

EPA authorized the use of imazamox on canola to control wild mustard; April 16, 2001 to July 15, 2001. Contact: (Barbara Madden)

EPA authorized the use of zinc phosphide on potatoes, sugarbeets, wheat, and barley to control meadow voles and field mice; April 27, 2001 to October 1, 2001. Contact: (Libby Pemberton)

EPA authorized the use of halosulfuron-methyl on asparagus to control nutsedge; May 1, 2001 to July 31, 2001. Contact: (Meredith Laws)

EPA authorized the use of lambda-cyhalothrin on barley to control Russian wheat aphids and cereal leaf beetles; May 2, 2001 to July 30, 2001. Contact: (Andrew Ertman)

EPA authorized the use of fluroxypyr on field corn to control volunteer potatoes; May 3, 2001 to August 1, 2001. Contact: (Andrew Ertman)

EPA authorized the use of fluroxypyr on sweet corn to control volunteer potatoes; May 3, 2001 to August 1, 2001. Contact: (Andrew Ertman)

EPA authorized the use of carfentrazone-ethyl on hops to control hop sucker growth to indirectly control powdery mildew; May 10, 2001 to September 22, 2001. Contact: (Barbara Madden)

EPA authorized the use of clopyralid on canola to control Canada thistle; May 11, 2001 to July 31, 2001. Contact: (Libby Pemberton)

EPA authorized the use of cymoxanil on hops to control downy mildew; May 24, 2001 to September 15, 2001. Contact: (Meredith Laws)

EPA authorized the use of paraquat dichloride on green and dry peas grown for seed as a desiccant; June 15, 2001 to November 30, 2001. Contact: (Libby Pemberton)

EPA authorized the use of bifenazate on hops to control two-spotted spider mites; June 22, 2001 to September 15, 2001. Contact: (Beth Edwards)

EPA authorized the use of fenpyroximate on hops to control two-spotted spider mites; June 22, 2001 to September 15, 2001. Contact: (Beth Edwards)

EPA authorized the use of imazapic on pasture and rangeland (including land in the Conservation Reserve Program) to control leafy spurge; July3, 2001 to July 3, 2002. Contact: (Libby Pemberton)

EPA authorized the use of myclobutanil on sugar beets to control powdery mildew; July 5, 2001 to September 15, 2001. Contact: (Barbara Madden)

EPA authorized the use of difenoconazole on sweet corn seeds to control damping off and die-back diseases in corn; August 10, 2001 to September 1, 2002. Contact: (Dan Rosenblatt)

EPA authorized the use of chlorine dioxide on stored potatoes to control late blight; September 12, 2001 to August 31, 2002. Contact: (Andrew Ertman)

Illinois

Department of Agriculture

Specific: EPA authorized the use of coumaphos in beehives to control varroa mites and small hive beetles; March 9, 2001 to February 1, 2002. Contact: (Barbara Madden)

EPA authorized the use of dimethomorph on squash, cantaloupes, watermelons, and cucumbers to control phytophthora capsici; April 20, 2001 to November 1, 2001. Contact: (Libby Pemberton)

Indiana

Office of Indiana State Chemist

Specific: EPA authorized the use of coumaphos in beehives to control varroa mites and small hive beetles; March 21, 2001 to February 1, 2002. Contact: (Barbara Madden)

EPA authorized the use of metolachlor on tomatoes to control nightshade; May 3, 2001 to July 1, 2002. Contact: (Andrew Ertman)

EPA authorized the use of fomesafen on snap beans to control broadleaf weeds; May 10, 2001 to September 1, 2001. Contact: (Shaja Brothers)

Iowa

Department of Agriculture and Land Stewardship

Specific: EPA authorized the use of coumaphos in beehives to control varroa mites and small hive beetles; February 7, 2001 to February 1, 2002. Contact: (Barbara Madden)

Kansas

Department of Agriculture

Crisis: On May 24, 2001, for the use of spinosad on alfalfa to control beet armyworms. This program ended on October 10, 2001. Contact: (Andrew Ertman)

Specific: EPA authorized the use of metsulfuron-methyl on sorghum to control triazine-resistant pigweed; January 12, 2001 to August 15, 2001. Contact: (Andrew Ertman)

EPA authorized the use of coumaphos in beehives to control varroa mites and small hive beetles; February 2, 2001 to February 1, 2002. Contact: (Barbara Madden)

EPA authorized the use of sulfentrazone on sunflowers to control kochia; March 15, 2001 to June 15, 2001. Contact: (Beth Edwards)

EPA authorized the use of spinosad on alfalfa to control beet armyworms; May 24, 2001 to October 10, 2001. Contact: (Andrew Ertman)

EPA authorized the use of propiconazole on dry beans to control rust; June 1, 2001 to August 15, 2001. Contact: (Barbara Madden)

Kentucky

Department of Agriculture

Crisis: On May 24, 2001, for the use of tebufenozide on pastures and hay fields to control armyworms. This program ended on June 7, 2001. Contact: (Barbara Madden)

Specific: EPA authorized the use of coumaphos in beehives to control varroa mites and small hive beetles; February 2, 2001 to February 1, 2002. Contact: (Barbara Madden)

Louisiana

Department of Agriculture and Forestry

Crisis: On March 2, 2001, for the use of azoxystrobin on strawberries to control anthracnose. This program ended on March 17, 2001. Contact: (Libby Pemberton)

On May 19, 2001, for the use of fipronil on wood structures to control Formosan termites. This program ended on May 19, 2001. Contact: (Andrew Ertman)

On June 11, 2001, for the use of methoxyfenozide on field corn to control southwestern corn borer. This program ended on June 27, 2001. Contact: (Barbara Madden)

Denial: On April 3, 2001, EPA denied the use of bispyribac-sodium on rice to control perennial barnyardgrass and resistant barnyardgrass. This request was denied because there are still data that need to be evaluated by the Agency for this new, unregistered chemical, and EPA is not able, at this time, to reach a “reasonable certainty of no harm” finding regarding human health effects which may result if use of this pesticide use was to occur, nor is EPA is also unable at this time to conclude that use of this product will not result in unacceptable adverse effects to the environment, including non-target organisms, endangered species, and ground water resources. Contact: (Andrew Ertman).

On August 3, 2001, EPA denied the use of flumioxazin on sugarcane to control red morning glory species. This request was denied based on the fact that it was not demonstrated that an urgent and non-routine situation exists due to the presence of red morning glory species. Additionally, the economic data were not sufficient to demonstrate that significant economic losses could be expected. Contact: (Libby Pemberton).

On August 9, 2001, EPA denied the use of flumioxazin on cotton to control pigweed and other weeds. This request was denied based on the fact that it was not demonstrated that an urgent and non-routine situation exists due to the presence of pigweed and other weeds in cotton. Contact: (Libby Pemberton).

Specific: EPA authorized the use of 3-chloro-4-methylbenzenamine hydrochloride on fallow land to control various birds; February 15, 2001 to April 15, 2001. Contact: (Libby Pemberton)

EPA authorized the use of coumaphos in beehives to control varroa mites and small hive beetles; February 20, 2001 to February 1, 2002. Contact: (Barbara Madden)

EPA authorized the use of imazapic plus 2,4-D on bermudagrass pastures and hayfields to control grassy weeds; March 9, 2001 to May 31, 2001. Contact: (Beth Edwards)

EPA authorized the use of sulfentrazone on sugarcane to control morning glory; March 14, 2001 to December 31, 2001. Contact: (Beth Edwards)

EPA authorized the use of fenoxaprop-p-ethyl and its safener AE F122006 on rice to control sprangletop; March 15, 2001 to June 30, 2001. Contact: (Andrew Ertman)

EPA authorized the use of emamectin benzoate on cotton to control beet armyworm and tobacco budworm; April 13, 2001 to September 31, 2001. Contact: (Beth Edwards)

EPA authorized the use of carbofuran on cotton to control cotton aphids; June 1, 2001 to September 30, 2001. Contact: (Barbara Madden)

EPA authorized the use of lambda-cyhalothrin on sugarcane to control sugarcane borers; June 15, 2001 to September 15, 2001. Contact: (Andrew Ertman)

EPA authorized the use of tebufenozide on sweet potatoes to control armyworms; September 5, 2001 to October 31, 2001. Contact: (Andrew Ertman)

Maine

Department of Agriculture, Food, and Rural Resources

Specific: EPA authorized the use of fomesafen on dry beans to control various broadleaf weeds; January 26, 2001 to July 15, 2001. Contact: (Andrea Conrath)

EPA authorized the use of coumaphos in beehives to control varroa mites and small hive beetles; March 21, 2001 to February 1, 2002. Contact: (Barbara Madden)

Maryland

Department of Agriculture

Specific: EPA authorized the use of metolachlor on tomatoes to control weeds; February 23, 2001 to July 31, 2001. Contact: (Andrew Ertman)

EPA authorized the use of coumaphos in beehives to control varroa mites and small hive beetles; March 2, 2001 to February 1, 2002. Contact: (Barbara Madden)

EPA authorized the use of terbacil on watermelons to control broadleaf weeds; March 28, 2001 to June 25, 2001. Contact: (Beth Edwards)

EPA authorized the use of azoxystrobin on strawberries to control anthracnose; April 12, 2001 to October 31, 2001. Contact: (Libby Pemberton)

EPA authorized the use of imidacloprid on stone fruit to control aphids; April 15, 2001 to July 15, 2001. Contact: (Andrew Ertman)

EPA authorized the use of fomesafen on snap beans to control broadleaf weeds; May 15, 2001 to September 15, 2001. Contact: (Shaja Brothers)

EPA authorized the use of dimethomorph on squash, cantaloupes, watermelons, and cucumbers to control phytophthora blight; June 20, 2001 to September 30, 2001. Contact: (Libby Pemberton)

EPA authorized the use of metolachlor on spinach to control weeds; August 1, 2001 to April 30, 2002. Contact: (Andrew Ertman)

Massachusetts

Massachusetts Department of Food and Agriculture

Crisis: On July 10, 2001, for the use of imidacloprid on cranberries to control cranberry weevils. This program ended on October 1, 2001. Contact: (Andrew Ertman)

Specific: EPA authorized the use of clopyralid on cranberries to control various weeds; February 23, 2001 to December 31, 2001. Contact: (Libby Pemberton)

EPA authorized the use of spinosad on cranberries to control spargonothis fruit worm; February 23, 2001 to October 1, 2001. Contact: (Andrew Ertman)

EPA authorized the use of coumaphos in beehives to control varroa mites and small hive beetles; March 2, 2001 to February 1, 2002. Contact: (Barbara Madden)

EPA authorized the use of propyzamide on cranberries to control dodder; March 30, 2001 to June 1, 2001. Contact: (Andrew Ertman)

EPA authorized the use of imidacloprid on cranberries to control cranberry weevils; July 10, 2001 to October 1, 2001. Contact: (Andrew Ertman)

Michigan

Michigan Department of Agriculture

Crisis: On May 25, 2001, for the use of tebuconazole on asparagus to control rust. This program ended on November 1, 2001. Contact: (Barbara Madden)

On July 19, 2001, for the use of imidacloprid on blueberries to control Japanese beetle grubs and adults. This program ended on October 1, 2001. Contact: (Andrew Ertman)

Specific: EPA authorized the use of clopyralid on cranberries to control various broadleaf weeds; March 14, 2001 to December 31, 2001. Contact: (Libby Pemberton)

EPA authorized the use of coumaphos in beehives to control varroa mites and small hive beetles; March 21, 2001 to February 1, 2002. Contact: (Barbara Madden)

EPA authorized the use of metolachlor on tomatoes to control nightshade; April 1, 2001 to July 1, 2001. Contact: (Andrew Ertman)

EPA authorized the use of oxytetracycline on apples to control fire blight; April 2, 2001, 2001 to June 30, 2001. Contact: (Andrew Ertman)

EPA authorized the use of dimethomorph on squash, cantaloupes, watermelons, and cucumbers to control Phytophthora capsici; April 20, 2001 to November 1, 2001. Contact: (Libby Pemberton)

EPA authorized the use of halosulfuron-methyl on asparagus to control nutsedge; May 1, 2001 to July 15, 2001. Contact: (Meredith Laws)

EPA authorized the use of fomesafen on snap beans to control broadleaf weeds; May 5, 2001 to August 30, 2001. Contact: (Shaja R. Brothers)

EPA authorized the use of mancozeb on ginseng to control stem and leaf blight; May 17, 2001 to October 15, 2001. Contact: (Beth Edwards)

EPA authorized the use of tebuconazole on wheat to control fusarium head blight; May 25, 2001 to June 30, 2001. Contact: (Beth Edwards)

EPA authorized the use of fomesafen on dry beans to control broadleaf weeds; June 1, 2001 to August 15, 2001. Contact: (Shaja R. Brothers)

EPA authorized the use of imidacloprid on blueberries to control Japanese beetle grubs and adults; July 19, 2001 to October 1, 2001. Contact: (Andrew Ertman)

Minnesota

Department of Agriculture

Specific: EPA authorized the use of imidacloprid on sweet corn seed to control the corn flea beetle; December 11, 2000 to December 10, 2001. Contact: (Andrew Ertman)

EPA authorized the use of coumaphos in beehives to control varroa mites and small hive beetles; February 16, 2001 to February 1, 2002. Contact: (Barbara Madden)

EPA authorized the use of sulfentrazone on sunflowers to control kochia; March 15, 2001 to June 30, 2001. Contact: (Beth Edwards)

EPA authorized the use of 2,4-D on cultivated wild rice to control water plantain; March 15, 2001 to July 31, 2001. Contact: (Beth Edwards)

EPA authorized the use of clopyralid on canola to control Canada thistle and perennial sowthistle; April 3, 2001 to July 31, 2001. Contact: (Libby Pemberton)

EPA authorized the use of ethalfluralin on canola to control kochia; April 13, 2001 to December 31, 2001. Contact: (Barbara Madden)

EPA authorized the use of imazamox on dry beans to control weeds; May 1, 2001 to July 15, 2001. Contact: (Barbara Madden)

EPA authorized the use of dimethenamid on sugar beets to control waterhemp; May 1, 2001 to August 1, 2001. Contact: (Barbara Madden)

EPA authorized the use of imazamox on imidazolinone-tolerant canola to control wild mustard; May 1, 2001 to July 15, 2001. Contact: (Barbara Madden)

EPA authorized the use of fomesafen in dry bean to control weeds; June 1, 2001 to August 15, 2001. Contact: (Shaja R. Brothers)

EPA authorized the use of propiconazole on dry beans to control rust; June 15, 2001 to August 31, 2001. Contact: (Barbara Madden)

EPA authorized the use of tetraconazole on sugar beets to control cercospora leafspot; June 15, 2001 to September 30, 2001. Contact: (Andrea Conrath)

EPA authorized the use of chlorine dioxide on stored potatoes to control late blight; September 12, 2001 to August 31, 2002. Contact: (Andrew Ertman)

Mississippi

Department of Agriculture and Commerce

Crisis: On May 9, 2001, for the use of tebufenozide on pasture and rangeland to control armyworms. This program ended on October 15, 2001. Contact: (Barbara Madden)

On June 26, 2001, for the use of methoxyfenozide on soybean to control saltmarsh caterpillar. This program ended on September 30, 2001. Contact: (Barbara Madden)

On July 2, 2001, for the use of methoxyfenozide on field corn to control Southwestern corn borer. This program ended on September 30, 2001. Contact: (Barbara Madden)

Denial: On April 3, 2001, EPA denied the use of bispyribac-sodium on rice to control resistant barnyardgrass, johnsongrass, and Northern and Indian Jointvetch. This request was denied because there are both registered alternatives and a FIFRA section 18 chemical that control all three weed species. Furthermore, there are still data that need to be evaluated by the Agency for this new, unregistered chemical, and EPA is not able, at this time, to reach a “reasonable certainty of no harm” finding regarding human health effects which may result if use of this pesticide use was to occur, nor is EPA is also unable at this time to conclude that use of this product will not result in unacceptable adverse effects to the environment, including non-target organisms, endangered species, and ground water resources. Contact: (Andrew Ertman).

On August 9, 2001, EPA denied the use of flumioxazin on cotton to control pigweed and other weeds. This request was denied based on the fact that it was not demonstrated that an urgent and non-routine situation exists due to the presence of pigweed and other weeds in cotton. Contact: (Libby Pemberton).

Specific: EPA authorized the use of coumaphos in beehives to control varroa mites and small hive beetles; February 2, 2001 to February 1, 2002. Contact: (Barbara Madden)

EPA authorized the use of azoxystrobin on strawberries to control anthracnose; March 1, 2001 to October 15, 2001. Contact: (Libby Pemberton)

EPA authorized the use of imazapic plus 2,4-D on bermudagrass hay meadows and pastures to control vaseygrass; March 1, 2001 to May 31, 2001. Contact: (Beth Edwards)

EPA authorized the use of carbofuran on cotton to control cotton aphids; March 30, 2001 to September 15, 2001. Contact: (Barbara Madden)

EPA authorized the use of fenoxaprop-p-ethyl and its safener AE F122006 on rice to control barnyardgrass and johnsongrass; April 1, 2001 to July 31, 2001. Contact: (Andrew Ertman)

EPA authorized the use of diuron and its metabolites convertible to 3,4-dichloroaniline on catfish ponds to control blue-green algae; June 1, 2001 to November 30, 2001. Contact: (Shaja R. Brothers)

EPA authorized the use of tebufenozide on pasture and rangeland to control armyworms; June 26, 2001 to October 15, 2001. Contact: (Barbara Madden)

EPA authorized the use of methoxyfenozide on field corn to control Southwestern corn borer; September 27, 2001 to September 30, 2001. Contact: (Barbara Madden)

EPA authorized the use of methoxyfenozide on soybean to control saltmarsh caterpillars; September 27, 2001 to September 30, 2001. Contact: (Barbara Madden)

Missouri

Department of Agriculture

Crisis: On May 15, 2001, for the use of tebufenozide on pasture and rangeland to control armyworms. This program ended on October 15, 2001. Contact: (Barbara Madden)

Specific: EPA authorized the use of sulfentrazone on sunflowers to control broadleaf weeds; March 28, 2001 to July 31, 2001. Contact: (Beth Edwards)

EPA authorized the use of fenoxaprop-p-ethyl and its safener AE F122006 on rice to control barnyardgrass; May 1, 2001 to June 30, 2001. Contact: (Andrew Ertman)

EPA authorized the use of fomesafen on snap bean to control weeds; May 15, 2001 to September 10, 2001. Contact: (Shaja R. Brothers)

EPA authorized the use of tebufenozide on pasture and rangeland to control armyworms; June 26, 2001 to October 15, 2001. Contact: (Barbara Madden)

EPA authorized the use of carbofuranl on cotton to control aphid; July 1, 2001 to September 30, 2001. Contact: (Barbara Madden)

Montana

Department of Agriculture

Crisis: On April 26, 2001, for the use of sulfentrazone on chickpeas and dried peas to control wild buckwheat. This program ended on June 30, 2001. Contact: (Meredith Laws)

On June 22, 2001, for the use of azoxystrobin on chickpeas to control ascochyta blight. This program ended on August 15, 2001. Contact: (Libby Pemberton)

Denial: On September 27, 2001, EPA denied the use of azoxystrobin on chickpeas to control ascochyta blight. This request was denied because it was not demonstrated that an urgent and non-routine situation exists due to the presence of ascochyta blight in chickpeas. Contact: (Libby Pemberton).

Specific: EPA authorized the use of coumaphos in beehives to control varroa mites and small hive beetles; February 16, 2001 to February 1, 2002. Contact: (Barbara Madden)

EPA authorized the use of sulfentrazone on sunflowers to control kochia; March 15, 2001 to June 30, 2001. Contact: (Beth Edwards)

EPA authorized the use of lambda-cyhalothrin on barley to control cutworms; March 20, 2001 to July 1, 2001. Contact: (Andrew Ertman)

EPA authorized the use of clopyralid on canola to control Canada thistle and perennial sowthistle; April 3, 2001 to July 31, 2001. Contact: (Libby Pemberton)

EPA authorized the use of ethalfluralin on canola to control kochia; April 13, 2001 to December 31, 2001. Contact: (Barbara Madden)

EPA authorized the use of sulfentrazone on chickpeas and dry peas to control wild buckwheat; April 26, 2001 to June 30, 2001. Contact: (Meredith Laws)

EPA authorized the use of dimethenamid on sugar beets to control hairy nightshade and Redroot pigweed; May 1, 2001 to July 31, 2001. Contact: (Barbara Madden)

EPA authorized the use of imazamox on dry beans to control various nightshade species and velvetleaf; May 1, 2001 to June 30, 2001. Contact: (Barbara Madden)

EPA authorized the use of lambda-cyhalothrin on barley to control the Russian wheat aphid; May 1, 2001 to July 30, 2001. Contact: (Andrew Ertman)

EPA authorized the use of imazamox on canola to control wild mustard; May 11, 2001 to July 15, 2001. Contact: (Barbara Madden)

EPA authorized the use of tetraconazole on sugar beets to control cercospora leafspot (Cercospora Beticola); June 15, 2001 to September 30, 2001. Contact: (Barbara Madden)

EPA authorized the use of sethoxydim on safflower to control wild oat; June 20, 2001 to July 31, 2001. Contact: (Libby Pemberton)

EPA authorized the use of paraquat dichloride on green and dry peas grown for seed as a desiccant; June 26, 2001 to November 30, 2001. Contact: (Libby Pemberton)

EPA authorized the use of imazapic-ammonium on pasture/rangeland to control leafy spurge; August 1, 2001 to December 31, 2001. Contact: (Libby Pemberton)

EPA authorized the use of chlorine dioxide on stored potatoes to control late blight; September 12, 2001 to August 31, 2002. Contact: (Andrew Ertman)

Nebraska

Department of Agriculture

Crisis: July 17, 2001, for the use of azoxystrobin on chickpeas to control ascochyta blight. This program ended on August 1, 2001. Contact: (Libby Pemberton)

On August 16, 2001, for the use of tebuconazole on sunflowers to control rust. This program ended on August 31, 2001. Contact: (Barbara Madden)

Specific: EPA authorized the use of coumaphos in beehives to control varroa mites and small hive beetles; February 16, 2001 to February 1, 2002. Contact: (Barbara Madden)

EPA authorized the use of sulfentrazone on sunflowers to control broadleaf weeds; March 16, 2001 to July 1, 2001. Contact: (Beth Edwards)

EPA authorized the use of dimethenamid on sugar beets to control weeds; April 30, 2001 to August 1, 2001. Contact: (Barbara Madden)

EPA authorized the use of imazamox on dry beans to control various nightshade species; June 1, 2001 to July 15, 2001. Contact: (Barbara Madden)

EPA authorized the use of metsulfuron-methyl on sorghum to control triazine-resistant pigweed; June 15, 2001 to July 31, 2001. Contact: (Andrew Ertman)

EPA authorized the use of tetraconazole on sugar beets to control cercospora leafspot (Cercospora Beticola); July 1, 2001 to September 30, 2001. Contact: (Barbara Madden) EPA authorized the use of propiconazole on grain sorghum and sorghum planted for seed production to control sorghum ergot; July 1, 2001 to August 31, 2001. Contact: (Libby Pemberton)

EPA authorized the use of imazapic on pasture and rangeland (including land in the Conservation Reserve Program) to control leafy spurge; August 31, 2001 to December 31, 2001. Contact: (Libby Pemberton)

Nevada

Department of Agriculture

Crisis: On May 4, 2001, for the use of bromoxynil on timothy to control weeds. This program ended on May 20, 2001. Contact: (Barbara Madden)

Specific: EPA authorized the use of chlorine dioxide on stored potatoes to control late blight; September 12, 2001 to August 31, 2002. Contact: (Andrew Ertman)

New Jersey

Department of Environmental Protection

Specific: EPA authorized the use of coumaphos in beehives to control varroa mites and small hive beetles; April 9, 2001 to February 1, 2002. Contact: (Barbara Madden)

EPA authorized the use of imidacloprid on blueberries to control blueberry aphids; April 10, 2001 to August 10, 2001. Contact: (Andrew Ertman)

EPA authorized the use of imidacloprid on stone fruit to control aphids; April 20, 2001 to November 30, 2001. Contact: (Andrew Ertman)

EPA authorized the use of clopyralid on peaches and nectarines to control weeds that serve as alternate hosts for plum pox virus or are refugia for the green peach aphid, the vector of this virus; May 1, 2001 to December 1, 2001. Contact: (Barbara Madden)

EPA authorized the use of metolachlor on spinach to control weeds; May 3, 2001 to November 1, 2001. Contact: (Andrew Ertman)

EPA authorized the use of propyzamide on cranberries to control dodder; May 9, 2001 to December 15, 2001. Contact: (Andrew Ertman)

EPA authorized the use of clopyralid on cranberries to control wild bean; May 9, 2001, to December 1, 2001. Contact: (Libby Pemberton)

EPA authorized the use of imidacloprid on blueberries to control oriental beetles; May 15, 2001 to September 15, 2001. Contact: (Andrew Ertman)

EPA authorized the use of metolachlor on tomatoes to control yellow nutsedge and nightshade species; May 16, 2001 to December 1, 2001. Contact: (Andrew Ertman)

EPA authorized the use of dimethomorph on squash, cantaloupes, watermelons, and cucumbers to control phytophthora blight; May 22, 2001 to October 31, 2001. Contact: (Libby Pemberton)

EPA authorized the use of fludioxonil on stone fruit to control brown rot, gray mold, and rhizopus rot; June 6, 2001 to September 30, 2001. Contact: (Andrew Ertman)

New Mexico

Department of Agriculture

Specific: EPA authorized the use of propiconazole on grain sorghum and sorghum planted for seed production to control sorghum ergot; June 1, 2001 to September 30, 2001. Contact: (Libby Pemberton)

EPA authorized the use of emamectin benzoate on cotton to control beet armyworm; June 1, 2001 to October 30, 2001. Contact: (Beth Edwards)

EPA authorized the use of metsulfuron-methyl on sorghum to control triazine-resistant pigweed; June 1, 2001 to September 30, 2001. Contact: (Andrew Ertman)

EPA authorized the use of spinosad on peanuts to control lepidopteran larvae; June 15, 2001 to October 30, 2001. Contact: (Andrew Ertman)

EPA authorized the use of spinosad on alfalfa to control beet armyworms; June 22, 2001 to November 1, 2001. Contact: (Andrew Ertman)

EPA authorized the use of myclobutanil on peppers to control powdery mildew; July 15, 2001 to October 15, 2001. Contact: (Barbara Madden)

New York

Department of Environmental Conservation

Specific: EPA authorized the use of coumaphos in beehives to control varroa mites and small hive beetles; February 16, 2001 to February 1, 2002. Contact: (Barbara Madden)

EPA authorized the use of dimethenamid on dry bulb onions to control yellow nutsedge and other broadleaf weeds; April 1, 2001 to July 30, 2001. Contact: (Barbara Madden)

EPA authorized the use of imidacloprid on stone fruit to control aphids; April 20, 2001 to October 15, 2001. Contact: (Andrew Ertman)

EPA authorized the use of dimethomorph on squash, cantaloupes, watermelons, and cucumbers to control phytophthora blight; May 22, 2001 to October 31, 2001. Contact: (Libby Pemberton)

EPA authorized the use of fomesafen in snap bean to control weeds; June 1, 2001 to August 15, 2002. Contact: (Shaja R. Brothers)

EPA authorized the use of fomesafen in dry bean to control weeds; June 1, 2001 to August 15, 2002. Contact: (Shaja R. Brothers)

North Carolina

Department of Agriculture

Crisis: On May 3, 2001, for the use of azoxystrobin on strawberries to control anthracnose. This program ended on October 31, 2001. Contact: (Libby Pemberton)

Specific: EPA authorized the use of coumaphos in beehives to control varroa mites and small hive beetles; February 16, 2001 to February 1, 2002. Contact: (Barbara Madden)

EPA authorized the use of fluazinam on peanuts to control sclerotinia blight; May 17, 2001 to October 1, 2001. Contact: (Barbara Madden)

EPA authorized the use of azoxystrobin on strawberries to control anthracnose; June 7, 2001 to October 15, 2001. Contact: (Libby Pemberton)

EPA authorized the use of diuron on catfish ponds to control blue-green algae; August 7, 2001 to November 30, 2001. Contact: (Shaja Brothers)

North Dakota

Department of Agriculture

Crisis:April 24, 2001, for the use of sulfentrazone on chickpeas and dry peas to control wild buckwheat. This program ended on June 30, 2001. Contact: (Meredith Laws)

June 19, 2001, for the use of azoxystrobin on chickpeas to control Ascochyta blight. This program ended on August 15, 2001. Contact: (Libby Pemberton)

Denial: On September 27, 2001 EPA denied the use of azoxystrobin on chickpeas to control ascochyta blight. This request was denied because it was not demonstrated that an urgent and non-routine situation exists due to the presence of ascochyta blight in chickpeas. Contact: (Libby Pemberton).

Specific: EPA authorized the use of sulfentrazone on sunflowers to control kochia; March 15, 2001 to June 30, 2001. Contact: (Beth Edwards)

EPA authorized the use of clopyralid on flax to control Canada thistle and perennial sowthistle; March 28, 2001 to July 31, 2001. Contact: (Libby Pemberton)

EPA authorized the use of coumaphos in beehives to control varroa mites and small hive beetles; April 9, 2001 to February 1, 2002. Contact: (Barbara Madden)

EPA authorized the use of ethalfluralin on canola to control kochia; April 13, 2001 to December 31, 2001. Contact: (Barbara Madden)

EPA authorized the use of sulfentrazone on chick peas and dry peas to control wild buckwheat; April 24, 2001 to June 30, 2001. Contact: (Meredith Laws)

EPA authorized the use of imazamox on imidazolinone-tolerant canola to control wild mustard; May 1, 2001 to July 15, 2001. Contact: (Barbara Madden)

EPA authorized the use of imazamox on dry beans to control various night shade species; May 1, 2001 to July 15, 2001. Contact: (Barbara Madden)

EPA authorized the use of clopyralid on canola to control Canada thistle and perennial sowthistle; May 1, 2001 to July 31, 2001. Contact: (Libby Pemberton)

EPA authorized the use of fomesafen in dry bean to control weeds; June 1, 2001 to August 15, 2002. Contact: (Shaja R. Brothers)

EPA authorized the use of tetraconazole on sugar beets to control cercospora leafspot; June 15, 2001 to September 30, 2001. Contact: (Andrea Conrath)

EPA authorized the use of propiconazole on dry beans to control rust; June 15, 2001 to August 31, 2001. Contact: (Barbara Madden)

EPA authorized the use of sethoxydim on safflower to control wild oat; June 20, 2001 to July 31, 2001. Contact: (Libby Pemberton)

EPA authorized the use of tebuconazole on sunflowers to control rust; July 5, 2001 to September 5, 2001. Contact: (Andrea Conrath)

EPA authorized the use of paraquat dichloride on green and dry peas grown for seed as a desiccant; July 11, 2001 to November 30, 2001. Contact: (Libby Pemberton)

EPA authorized the use of imazapic-amonium on pasture and rangeland (including land in the Conservation Reserve Program) to control leafy spurge; August 1, 2001 to December 31, 2001. Contact: (Libby Pemberton)

EPA authorized the use of chlorine dioxide on stored potatoes to control late blight; September 12, 2001 to August 31, 2002. Contact: (Andrew Ertman)

Ohio

Department of Agriculture

Denial: On August 22, 2001, EPA denied the use of pendimethalin on green onions to control common purslane. This request was denied because the Agency made a determination that is was not possible to refine the residential risk assessment so that a safety finding could be made on this chemical in time to meet the growers' use season. Contact: (Dan Rosenblatt).

Specific: EPA authorized the use of coumaphos in beehives to control varroa mites and small hive beetles; March 9, 2001 to February 1, 2002. Contact: (Barbara Madden)

EPA authorized the use of metolachlor on tomatoes to control nightshade; April 15, 2001 to July 15, 2001. Contact: (Andrew Ertman)

EPA authorized the use of sulfentrazone on strawberries to control common groundsel; June 20, 2001 to December 15, 2001. Contact: (Barbara Madden)

Oklahoma

Department of Agriculture

Crisis: On April 20, 2001, for the use of azoxystrobin on strawberries to control anthracnose. This program is expected to end on December 31, 2001. Contact: (Libby Pemberton)

Specific: EPA authorized the use of coumaphos in beehives to control varroa mites and small hive beetles; March 2, 2001 to February 1, 2002. Contact: (Barbara Madden)

EPA authorized the use of fomesafen on snap bean to control weeds; March 30, 2001 to September 10, 2001. Contact: (Shaja R. Brothers)

EPA authorized the use of emamectin benzoate on cotton to control beet armyworm; April 13, 2001 to October 31, 2001. Contact: (Beth Edwards)

EPA authorized the use of sulfentrazone on sunflowers to control broadleaf weeds; May 3, 2001 to July 15, 2001. Contact: (Beth Edwards)

EPA authorized the use of azoxystrobin on strawberries to control anthracnose; May 9, 2001 to December 31, 2001. Contact: (Libby Pemberton)

EPA authorized the use of metsulfuron-methyl on sorghum to control weeds; June 15, 2001 to August 15, 2001. Contact: (Andrew Ertman)

EPA authorized the use of carbofuran on cotton to control cotton aphids; July 1, 2001 to October 31, 2001. Contact: (Barbara Madden)

EPA authorized the use of tebufenozide on peanuts to control beet armyworm; July 15, 2001 to October 15, 2001. Contact: (Barbara Madden)

EPA authorized the use of bifenthrin on peanuts to control spider mites; July 15, 2001 to October 30, 2001. Contact: (Andrew Ertman)

EPA authorized the use of fluazinam on peanuts to control Sclerotinia blight; July 15, 2001 to October 15, 2001. Contact: (Barbara Madden)

EPA authorized the use of metolachlor on spinach to control weeds; August 15, 2001 to March 31, 2001. Contact: (Andrew Ertman)

Oregon

Department of Agriculture

Denial: On February 1, 2001, EPA denied the use of triflumizole on hazelnut to control Eastern Filbert Blight (EFB). This request was denied because the submission did not meet the criteria for an urgent, non-routine situation based on the availability of an effective alternative, tebuconazole, available under a FIFRA section 18 exemption. Contact: (Andrea Conrath).

On April 18, 2001, EPA denied the use of folpet on hops to control downy mildew. This request was denied because the submission did not meet the criteria for an urgent, non-routine situation based on the availability of an effective alternative. Contact: (Libby Pemberton).

On June 26, 2001, EPA denied the use of triflumizole on sweet cherries to control powdery mildew. This request was denied because the claim of resistance to registered alternatives was not fully substantiated. Contact: (Andrew Ertman).

Specific: EPA authorized the use of oxyfluorfen on strawberry to control broadleaf weeds; December 15, 2000 to January 31, 2001. Contact: (Barbara Madden)

EPA authorized the use of clopyralid on cranberries to control lotus, Douglas aster, and clover; January 1, 2001 to December 31, 2001. Contact: (Libby Pemberton)

EPA authorized the use of pendimethalin on mint to control kochia and redroot pigweed; January 29, 2001 to December 31, 2001. Contact: (Libby Pemberton)

EPA authorized the use of coumaphos in beehives to control varroa mites and small hive beetles; February 2, 2001 to February 1, 2002. Contact: (Barbara Madden)

EPA authorized the use of tebuconazole on hazelnuts to control EFB; February 15, 2001 to May 30, 2001. Contact: (Andrea Conrath)

EPA authorized the use of ethoprop on baby and idle hops to control garden symphylans; February 15, 2001 to May 31, 2001. Contact: (Libby Pemberton)

EPA authorized the use of oxytetracycline on apples to control fire blight; March 15, 2001 to August 1, 2001. Contact: (Andrew Ertman)

EPA authorized the use of cymoxanil on hops to control downy mildew; March 21, 2001 to September 15, 2001. Contact: (Libby Pemberton)

EPA authorized the use of tebuconazole and myclobutanil on hops to control powdery mildew; April 15, 2001 to September 22, 2001. Contact: (Barbara Madden)

EPA authorized the use of halosulfuron-methyl on asparagus to control nutsedge; May 1, 2001 to October 31, 2001. Contact: (Meredith Laws)

EPA authorized the use of fluroxypyr on field corn to control volunteer potatoes; May 4, 2001 to August 1, 2001. Contact: (Andrew Ertman)

EPA authorized the use of fluroxypyr on sweet corn to control volunteer potatoes; May 4, 2001 to August 1, 2001. Contact: (Andrew Ertman)

EPA authorized the use of carfentrazone-ethyl on hops to control hop sucker growth to indirectly control powdery mildew; May 10, 2001 to September 22, 2001. Contact: (Barbara Madden)

EPA authorized the use of clopyralid on canola to control Canada thistle; May 11, 2001 to July 31, 2001. Contact: (Libby Pemberton)

EPA authorized the use of imazamox on canola to control wild mustard; May 11, 2001 to July 15, 2001. Contact: (Barbara Madden)

EPA authorized the use of triazamate on Christmas trees to control root aphid; May 21, 2001 to October 31, 2001. Contact: (Steve Schaible)

EPA authorized the use of fludioxonil on peaches to control brown rot, gray mold and Rhizopus rot; June 6, 2001 to September 30, 2001. Contact: (Andrew Ertman)

EPA authorized the use of paraquat dichloride on green and dry peas grown for seed as a desiccant; June 15, 2001 to November 30, 2001. Contact: (Libby Pemberton)

EPA authorized the use of bifenazate on pears to control two-spotted spider mites; June 15, 2001 to September 15, 2001. Contact: (Beth Edwards)

EPA authorized the use of myclobutanil on sugar beets to control powdery mildew; July 5, 2001 to September 15, 2001. Contact: (Barbara Madden)

EPA authorized the use of ethoprop on mint to control garden symphylans; July 17, 2001 to September 15, 2001. Contact: (Dan Rosenblatt)

EPA authorized the use of chlorine dioxide on stored potatoes to control late blight; September 12, 2001 to August 31, 2002. Contact: (Andrew Ertman)

Pennsylvania

Department of Agriculture

Specific: EPA authorized the use of coumaphos in beehives to control varroa mites and small hive beetles; February 7, 2001 to February 1, 2002. Contact: (Barbara Madden)

EPA authorized the use of imidacloprid on stone fruit to control aphids; April 15, 2001 to October 15, 2001. Contact: (Andrew Ertman)

EPA authorized the use of metolachlor on spinach to control weeds; April 20, 2001 to August 30, 2001. Contact: (Andrew Ertman)

EPA authorized the use of fomesafen on snap bean to control weeds; May 1, 2001 to August 30, 2001. Contact: (Shaja R. Brothers)

EPA authorized the use of metolachlor on tomatoes to control weeds; May 1, 2001 to June 30, 2001. Contact: (Andrew Ertman)

Rhode Island

Department of Environmental Management

Specific: EPA authorized the use of propyzamide on cranberries to control dodder; March 30, 2001 to June 1, 2001. Contact: (Andrew Ertman)

South Carolina

Clemson University

Specific: EPA authorized the use of coumaphos in beehives to control varroa mites and small hive beetles; February 2, 2001 to February 1, 2002. Contact: (Barbara Madden)

EPA authorized the use of azoxystrobin on strawberries to control anthracnose; March 14, 2001 to June 30, 2001. Contact: (Libby Pemberton)

EPA authorized the use of fludioxonil on peaches and nectarines to control brown rot; April 20, 2001 to September 15, 2001. Contact: (Andrew Ertman)

South Dakota

Department of Agriculture

Crisis: On April 19, 2001, for the use of sulfentrazone on chickpeas and dried peas to control kochia. This program ended on June 30, 2001. Contact: (Meredith Laws)

On April 20, 2001, for the use of pendimethalin on mint to control kochia and pigweed. This program is expected to end on April 20, 2002. Contact: (Libby Pemberton)

Specific: EPA authorized the use of coumaphos in beehives to control varroa mites and small hive beetles; March 9, 2001 to February 1, 2002. Contact: (Barbara Madden)

EPA authorized the use of imazapic-ammonium on pasture and rangeland (including land in the Conservation Reserve Program) to control leafy spurge; March 15, 2001 to March 15, 2002. Contact: (Libby Pemberton)

EPA authorized the use of sulfentrazone on sunflowers to control kochia; March 16, 2001 to June 30, 2001. Contact: (Beth Edwards)

EPA authorized the use of sulfentrazone on chickpeas and dried peas to control kochia; April 19, 2001 to June 30, 2001. Contact: (Meredith Laws)

EPA authorized the use of pendimethalin on mint to control kochia and redroot pigweed; April 27, 2001 to April 27. 2002. Contact: (Libby Pemberton)

EPA authorized the use of tebuconazole on wheat to control fusarium head blight; June 12, 2001 to August 31, 2001. Contact: (Beth Edwards)

EPA authorized the use of tebuconazole on barley to control fusarium head blight; June 12, 2001 to August 31, 2001. Contact: (Beth Edwards)

Tennessee

Department of Agriculture

Crisis: On September 13, 2000, for the use of imidacloprid on legume vegetables to control whiteflies. This program ended on September 28, 2000. Contact: (Andrea Conrath)

Specific: EPA authorized the use of coumaphos in beehives to control varroa mites and small hive beetles; February 7, 2001 to February 1, 2002. Contact: (Barbara Madden)

EPA authorized the use of azoxystrobin on strawberries to control anthracnose; March 20, 2001 to October 15, 2001. Contact: (Libby Pemberton)

EPA authorized the use of tebufenozide on pasture land to control armyworms; March 30, 2001 to December 15, 2002. Contact: (Barbara Madden)

EPA authorized the use of azoxystrobin on watercress to control cercospora leaf spot disease; April 15, 2001 to April 15, 2002. Contact: (Libby Pemberton)

EPA authorized the use of sulfentrazone on lima bean to control hophornbeam copperleaf; April 16, 2001 to September 30, 2001. Contact: (Beth Edwards)

EPA authorized the use of sulfentrazone on cowpea to control hophornbeam copperleaf; April 16, 2001 to September 30, 2001. Contact: (Beth Edwards)

EPA authorized the use of carbofuranl on cotton to control aphid; July 1, 2001 to September 30, 2001. Contact: (Barbara Madden)

Texas

Department of Agriculture

Crisis: On August 21, 2000, for the use of tebufenozide on legume vegetables to control beet armyworms. This program ended on September 5, 2000. Contact: (Andrew Ertman)

On August 21, 2000, for the use of tebufenozide on sunflowers to control beet armyworms. This program ended on September 5, 2000. Contact: (Andrew Ertman)

On September 18, 2001, for the use of azoxystrobin on cabbage to control alternaria leafspot and cercospora leafspot. This program ended on/is expected to end on September 18, 2002. Contact: (Libby Pemberton)

Specific: EPA authorized the use of imazapic plus 2,4-D on bermudagrass hay meadows and pastures to control grassy weeds; January 8, 2001 to October 30, 2001. Contact: (Beth Edwards)

EPA authorized the use of metsulfuron-methyl on sorghum to control triazine-resistant pigweed; January 12, 2001 to August 1, 2001. Contact: (Andrew Ertman)

EPA authorized the use of coumaphos in beehives to control varroa mites and small hive beetles; February 20, 2001 to February 1, 2002. Contact: (Barbara Madden)

EPA authorized the use of carbofuran on cotton to control cotton aphids; March 23, 2001 to October 31, 2001. Contact: (Barbara Madden)

EPA authorized the use of sulfentrazone on sunflowers to control broadleaf weeds; March 28, 2001 to June 30, 2001. Contact: (Beth Edwards)

EPA authorized the use of emamectin benzoate on cotton to control beet armyworm; April 13, 2001 to October 1, 2001. Contact: (Beth Edwards)

EPA authorized the use of fluazinam on peanuts to control sclerotinia blight; June 1, 2001 to May 31, 2002. Contact: (Barbara Madden)

EPA authorized the use of bifenazate on greenhouse grown tomatoes to control spider mites; June 13, 2001 to June 12, 2002. Contact: (Barbara Madden)

EPA authorized the use of spinosad on peanuts to control lepidopteran larvae; June 15, 2001 to October 30, 2001. Contact: (Andrew Ertman)

EPA authorized the use of spinosad on alfalfa to control beet armyworms; June 22, 2001 to November 1, 2001. Contact: (Andrew Ertman)

EPA authorized the use of bifenthrin on sorghum grown for seed to control Banks grass mite; August 1, 2001 to August 1, 2002. Contact: (Shaja R. Brothers)

EPA authorized the use of fenbuconazole on grapefruit to control greasy spot; August 8, 2001 to March 31, 2002. Contact: (Dan Rosenblatt)

EPA authorized the use of chlorine dioxide on stored potatoes to control late blight; September 12, 2001 to August 31, 2002. Contact: (Andrew Ertman)

Utah

Department of Agriculture

Denial: On June 26, 2001, EPA denied the use of triflumizole on cherries to control powdery mildew. This request was denied because the claim of resistance to registered alternatives was not fully substantiated. Contact: (Andrew Ertman).

Quarantine: EPA authorized the use of chlorine dioxide on various items/surfaces to control foot and mouth disease; June 15, 2001 to June 15, 2004. Contact: (Beth Edwards)

Specific: EPA authorized the use of coumaphos in beehives to control varroa mites and small hive beetles; February 16, 2001 to February 1, 2002. Contact: (Barbara Madden)

EPA authorized the use of oxytetracycline on apples to control fire blight; April 1, 2001 to August 1, 2001. Contact: (Andrew Ertman)

EPA authorized the use of myclobutanil on sugar beets to control powdery mildew; May 21, 2001 to September 15, 2001. Contact: (Barbara Madden)

Vermont

Department of Agriculture

Crisis: On July 11, 2001, for the use of tebufenozide on pasture to control armyworms. This program ended on October 31, 2001. Contact: (Barbara Madden)

Specific: EPA authorized the use of coumaphos in beehives to control varroa mites and small hive beetles; April 9, 2001 to February 1, 2002. Contact: (Barbara Madden)

EPA authorized the use of tebufenozide on pasture to control armyworms; July 26, 2001 to October 31, 2001. Contact: (Barbara Madden)

Virginia

Department of Agriculture and Consumer Services

Specific: EPA authorized the use of coumaphos in beehives to control varroa mites and small hive beetles; February 2, 2001 to February 1, 2002. Contact: (Barbara Madden)

EPA authorized the use of metolachlor on spinach to control weeds; February 15, 2001 to December 31, 2001. Contact: (Andrew Ertman)

EPA authorized the use of metolachlor on tomatoes to control nutsedge, nightshade and annual grasses; March 6, 2001 to August 1, 2001. Contact: (Andrew Ertman)

EPA authorized the use of terbacil on watermelons to control broadleaf weeds; March 28, 2001 to July 10, 2001. Contact: (Beth Edwards)

EPA authorized the use of imidacloprid on stone fruit to control aphids; April 20, 2001 to October 1, 2001. Contact: (Andrew Ertman)

EPA authorized the use of fomesafen on snap bean to control weeds; April 20, 2001 to September 20, 2001. Contact: (Shaja R. Brothers)

EPA authorized the use of bifenazate on greenhouse grown tomatoes to control spider mites; June 13, 2001 to June 12, 2002. Contact: (Barbara Madden)

EPA authorized the use of fluazinam on peanuts to control sclerotinia blight; June 15, 2001 to October 1, 2001. Contact: (Barbara Madden)

EPA authorized the use of azoxystrobin on peppers to control anthracnose fruit rot; June 26, 2001 to November 30, 2001. Contact: (Libby Pemberton)

EPA authorized the use of tebufenozide on grape to control grape berry moth; July 17, 2001 to October 1, 2001. Contact: (Shaja R. Brothers)

Washington

Department of Agriculture

Crisis: On June 1, 2001, for the use of azoxystrobin on chickpeas to control ascochyta blight. This program ended on August 31, 2001. Contact: (Libby Pemberton)

Denial: On June 26, 2001, EPA denied the use of triflumizole on sweet cherries to control powdery mildew. This request was denied because the claim of resistance to registered alternatives was not fully substantiated. Contact: (Andrew Ertman).

On September 27, 2001, EPA denied the use of azoxystrobin on chickpeas to control ascochyta blight. This request was denied because it was not demonstrated that an urgent and non-routine situation exists due to the presence of ascochyta blight in chickpeas. Contact: (Libby Pemberton).

Specific: EPA authorized the use of oxyfluorfen on strawberry to control broadleaf weeds; December 15, 2000 to January 31, 2001. Contact: (Barbara Madden)

EPA authorized the use of clopyralid on cranberries to control lotus, Douglas aster, and clover; January 1, 2001 to December 31, 2001. Contact: (Libby Pemberton)

EPA authorized the use of pendimethalin on mint to control kochia and redroot pigweed; January 29, 2001 to December 31, 2001. Contact: (Libby Pemberton)

EPA authorized the use of oxytetracycline on apples to control fire blight; January 31, 2001 to August 31, 2001. Contact: (Andrea Conrath)

EPA authorized the use of coumaphos in beehives to control varroa mites and small hive beetles; February 2, 2001 to February 1, 2002. Contact: (Barbara Madden)

EPA authorized the use of fenpropathrin on currants to control cane borer and stem girdler; March 7, 2001 to June 14, 2001. Contact: (Libby Pemberton)

EPA authorized the use of tebuconazole and myclobutanil on hops to control powdery mildew; April 15, 2001 to September 22, 2001. Contact: (Barbara Madden)

EPA authorized the use of halosulfuron-methyl on asparagus to control nutsedge; May 1, 2001 to July 31, 2001. Contact: (Meredith Laws)

EPA authorized the use of fluroxypyr on field corn to control volunteer potatoes; May 4, 2001 to August 1, 2001. Contact: (Andrew Ertman)

EPA authorized the use of fluroxypyr on sweet corn to control volunteer potatoes; May 4, 2001 to August 1, 2001. Contact: (Andrew Ertman)

EPA authorized the use of carfentrazone-ethyl on hops to control hop sucker growth to indirectly control powdery mildew; May 10, 2001 to September 22, 2001. Contact: (Barbara Madden)

EPA authorized the use of clopyralid on canola to control Canada thistle; May 11, 2001 to July 31, 2001. Contact: (Libby Pemberton)

EPA authorized the use of triazamate on Christmas trees to control root aphid; May 21, 2001 to October 31, 2001. Contact: (Steve Schaible)

EPA authorized the use of paraquat dichloride on green and dry peas grown for seed as a desiccant; June 15, 2001 to November 30, 2001. Contact: (Libby Pemberton)

EPA authorized the use of bifenazate on pears to control two-spotted spider mites; June 15, 2001 to September 15, 2001. Contact: (Beth Edwards)

EPA authorized the use of bifenazate on hops to control two-spotted spider mites; June 22, 2001 to September 15, 2001. Contact: (Beth Edwards)

EPA authorized the use of fenpyroximate on hops to control two-spotted spider mites; June 22, 2001 to September 15, 2001. Contact: (Beth Edwards)

EPA authorized the use of zinc phosphide on timothy and timothy/alfalfa and timothy/clover mixtures produced for hay and timothy produced for seed to control meadow vole; August 30, 2001 to May 1, 2002. Contact: (Libby Pemberton)

EPA authorized the use of chlorine dioxide on stored potatoes to control late blight; September 12, 2001 to August 31, 2002. Contact: (Andrew Ertman)

West Virginia

Department of Agriculture

Specific: EPA authorized the use of coumaphos in beehives to control varroa mites and small hive beetles; February 16, 2001 to February 1, 2002. Contact: (Barbara Madden)

EPA authorized the use of imidacloprid on peaches and nectarines to control aphids; April 1, 2001 to November 30, 2001. Contact: (Andrew Ertman)

EPA authorized the use of azoxystrobin on watercress to control cercospora leaf spot disease; May 1, 2001 to May 1, 2002. Contact: (Libby Pemberton)

Wisconsin

Department of Agriculture, Trade, and Consumer Protection

Crisis: June 13, 2001, for the use of chlorothalonil on ginseng to control leaf and stem blight. This program ended on October 1, 2001. Contact: (Dan Rosenblatt)

Specific: EPA authorized the use of clopyralid on cranberries to control various weeds; January 18, 2001 to December 31, 2001. Contact: (Libby Pemberton)

EPA authorized the use of coumaphos in beehives to control varroa mites and small hive beetles; February 2, 2001 to February 1, 2002. Contact: (Barbara Madden)

EPA authorized the use of metolachlor on spinach to control weeds; April 1, 2001 to August 31, 2001. Contact: (Andrew Ertman)

EPA authorized the use of dimethenamid on dry bulb onions to control yellow nutsedge and other broadleaf weeds; April 1, 2001 to July 31, 2001. Contact: (Barbara Madden)

EPA authorized the use of propiconazole on cranberries to control cottonball disease; April 15, 2001 to July 31, 2001. Contact: (Barbara Madden)

EPA authorized the use of dimethomorph on pumpkins and cucumbers to control phytophthora capsici; April 20, 2001 to October 1, 2001. Contact: (Libby Pemberton)

EPA authorized the use of imazamox on dry beans to control various nightshade species and velvetleaf; May 1, 2001 to July 31, 2001. Contact: (Barbara Madden)

EPA authorized the use of mancozeb on ginseng to control stem and leaf blight; May 17, 2001 to October 15, 2001. Contact: (Beth Edwards)

EPA authorized the use of fluroxypyr on field corn to control volunteer potatoes; June 7, 2001 to July 15, 2001. Contact: (Andrew Ertman)

EPA authorized the use of fluroxypyr on sweet corn to control volunteer potatoes; July 27, 2001 to August 15, 2001. Contact: (Andrew Ertman)

EPA authorized the use of chlorine dioxide on stored potatoes to control late blight; September 12, 2001 to August 31, 2002. Contact: (Andrew Ertman)

Wyoming

Department of Agriculture

Specific: EPA authorized the use of coumaphos in beehives to control varroa mites and small hive beetles; March 2, 2001 to February 1, 2002. Contact: (Barbara Madden)

EPA authorized the use of sulfentrazone on sulflowers to control broadleaf weeds; March 30, 2001 to July 1, 2001. Contact: (Beth Edwards)

EPA authorized the use of dimethenamid on sugar beets to control hairy nightshade and Redroot pigweed; May 1, 2001 to August 1, 2001. Contact: (Barbara Madden)

EPA authorized the use of lambda-cyhalothrin on barley to control Russian wheat aphids; May 2, 2001 to July 31, 2001. Contact: (Andrew Ertman)

EPA authorized the use of imazamox on dry beans to control various night shade species; June 1, 2001 to July 15, 2001. Contact: (Barbara Madden)

EPA authorized the use of tetraconazole on sugar beets to control cercospora leafspot (Cercospora Beticola); June 15, 2001 to September 30, 2001. Contact: (Barbara Madden)

EPA authorized the use of imazapic-amonium on pasture and rangeland (including land in the Conservation Reserve Program) to control leafy spurge and dalmation toadflax; August 1, 2001 to December 31, 2001. Contact: (Libby Pemberton)

B. Federal Departments and Agencies

Agriculture Department

Animal and Plant Health Inspector Service

Quarantine: EPA authorized the use of brodifacoum and bromethalin on Palmyra Atoll, Line Islands, Pacific Ocean. for the eradication of black rats (Rattus Rattus); June 11, 2001 to June 11, 2004. Contact: (Barbara Madden)

EPA authorized the use of paraformaldehyde in animal laboratories to control various diseases; August 7, 2001 to August 7, 2004. Contact: (Libby Pemberton)

Interior Department

Fish and Wildlife Service

Quarantine: EPA authorized the use of brodifacoum on islands of the Alaska Maritime National Wildlife Refuge with seabird populations that do not have existing exotic rodent populations to control Norway rats (Rattus Norvegicus) and house mice (Mus Musculus) introduced as a result of shipwrecks; March 23, 2001 to March 23, 2004. Contact: (Barbara Madden)

National Park Service

Quarantine: EPA authorized the use of brodifacoum on Anacapa Island, Channel Islands National Park to eradicate roof rats (Rattus Rattus), Norway rats (Rattus Norvegicus), and house mice (Mus Musculus); December 12, 2000 to December 12, 2003. Contact: (Barbara Madden)

List of Subjects

Environmental protection, Pesticides and pest.

Dated: November 2, 2001.
Peter Caulkins,
Acting Director, Registration Division, Office of Pesticide Programs.

[FR Doc. 01-28526 Filed 11-13-01; 8:45 am]

BILLING CODE 6560-50-S